INTERNATIONAL TRADE COMMISSION

[Investigation No. 337-TA-1434]

Certain Composite Intermediate Bulk Containers; Notice of Commission Determination on Remedy, the Public Interest, and Bonding for a Defaulting Respondent; Termination of Investigation

AGENCY: U.S. International Trade Commission.

ACTION: Notice.

SUMMARY: Notice is hereby given that the U.S. International Trade Commission has determined to issue a limited exclusion order and impose a bond of 100 percent (100%) against a defaulting respondent, Hebei Shijiheng Plastics, Co., Ltd., of Zhongjie Huanghua City, China (“Hebei Shijiheng”). The Commission has determined that the remedy will not adversely impact the public interest. This investigation is hereby terminated.

FOR FURTHER INFORMATION CONTACT: Carl P. Bretscher, Office of the General Counsel, U.S. International Trade Commission, 500 E Street SW, Washington, DC 20436, telephone (202) 205-2382. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On January 27, 2025, the Commission instituted this investigation based on a complaint filed by Schütz Container Systems, Inc. of North Branch, New Jersey and Protechna S.A. of Fribourg, Switzerland (collectively, “Complainants”). 90 FR 8222-23 (Jan. 27, 2025). The complaint, as supplemented, alleges violations of section 337 of the Tariff Act of 1930, as amended, 19 U.S.C. 1337 (“section 337”), by reason of the infringement of certain claims of U.S. Patent Nos. 9,004,310 (“the '310 patent”); 9,718,581; 8,708,150; 8,919,562; 8,567,626; and 8,276,299. Id. The Commission's notice of investigation named the following respondents: Hebei Shijiheng; Shanghai Sakura Plastic Products Co., Ltd. (d/b/a Shanghai Yinghua Plastic Products Co., Ltd.) of Shanghai, China (“Sakura”); Shandong Jinshan Jieyuan Container Co., Ltd. of Zhengjiang City, China (“Jinshan”); and Zibo Jielin Plastic Pipe Manufacture Co. Ltd. of Zibo City, China (“Jielin”). Id. The Office of Unfair Import Investigations (“OUII”) is also a party in the investigation. Id.

On April 22, 2025, the Commission terminated the investigation as to certain patent claims based on withdrawal of the complaint. See Order No. 9 (Apr. 2, 2025), unreviewed by Notice (Apr. 22, 2025).

On May 28, 2025, the Commission amended the complaint and notice of investigation to change the address of Hebei Shijiheng to the address where Hebei Shijiheng had been served with the complaint and notice of investigation. Order No. 10 (May 9, 2025), unreviewed by Notice (May 28, 2025).

On July 7, 2025, the Commission amended the complaint and notice of investigation to assert claims 1-3 and 5 of the '150 patent against respondents Jinshan and Sakura. Order No. 12 (June 13, 2025), unreviewed by 90 FR 30680-81 (July 10, 2025). The Commission found that good cause exists for the amendments because “Complainants learned of additional infringing product models manufactured by Jinshan and Sakura after filing of the complaint.” Order No. 12 at 3.

Also on July 7, 2025, the Commission found respondent Hebei Shijiheng in default for failure to respond to the complaint and notice of investigation or an order to show cause (Order No. 11) issued on June 2, 2025. Order No. 13 (June 17, 2025), unreviewed by Comm'n Notice (July 7, 2025).

On September 11, 2025, Complainants filed a declaration pursuant to section 337(g)(1) (19 U.S.C. 1337(g)(1)) and Commission Rule 210.16(c) (19 CFR 210.16(c)) seeking immediate entry of relief against the defaulting respondent, Hebei Shijiheng. Specifically, Complainants request a limited exclusion order prohibiting entry into the United States of Hebei Shijiheng's infringing articles. Complainants also request that the Commission set a bond of 100 percent (100%) of the entered value of the infringing articles during the period of Presidential review.

On December 22, 2025, the Commission determined to adopt three initial determinations (Order Nos. 20, 21, and 22) granting Complainants' unopposed motions to terminate Sakura, Jinshan, and Jielin, respectively, from this investigation due to consent orders, pursuant to Commission Rule 210.21(a)(2), 19 CFR 210.21(a)(2). See Order No. 20 (Dec. 8, 2025) (terminating Sakura); Order No. 21 (Dec. 8, 2025) (terminating Jinshan); Order No. 22 (Dec. 8, 2025) (terminating Jielin), unreviewed by 90 FR 61164-65 (Dec. 30, 2025).

In that same notice, the Commission requested written submissions on the issues of remedy, the public interest, and bonding with respect to the defaulting respondent, Hebei Shijiheng. 90 FR at 61164-65. Complainants and OUII filed their initial responses on January 9, 2026. Complainants request entry of a limited exclusion order directed to Hebei Shijiheng. Complainants do not request the issuance of a cease and desist order. OUII filed a reply to the Complainants' response on January 16, 2026. Complainants did not file a reply. No respondent, including Hebei Shijiheng, or any third party or interested government agency filed a response to the Commission's request or opposed the relief requested by Complainants and OUII.

When the conditions in section 337(g)(1)(A)-(E) (19 U.S.C. 1337(g)(1)(A)-(E)) have been satisfied, section 337(g)(1) and Commission Rule 210.16(c) (19 CFR 210.16(c)) direct the Commission, upon request, to issue a limited exclusion order or a cease and desist order or both against a respondent found in default, based on the allegations regarding a violation of section 337 in the complaint, which are presumed to be true, unless after consideration of the public interest factors in section 337(g)(1), it finds that such relief should not issue.

Having reviewed the parties' submissions, the Commission has determined to issue a limited exclusion order against Hebei Shijiheng to exclude covered products that infringe claims 1-5 and 8 of the '310 patent, pursuant to 19 U.S.C. 1337(g)(1) and Commission Rule 210.16(c)(1), 19 CFR 210.16(c)(1). The Commission has determined that excluding the intermediate bulk containers at issue will not have an adverse effect on the public interest. The Commission has also determined to impose a bond in the amount of 100 percent (100%) of the entered value of articles covered articles imported during the period of Presidential review, pursuant to 19 U.S.C. 1337(j)(3) and Commission Rule 210.50(a)(3), 19 CFR 210.50(a)(3).

This investigation is hereby terminated.

The Commission's vote for this determination took place on February 17, 2026.

The authority for the Commission's determination is contained in section 337 of the Tariff Act of 1930, as amended (19 U.S.C. 1337), and in Part 210 of the Commission's Rules of Practice and Procedure (19 CFR part 210).

By order of the Commission.
Issued: February 17, 2026.
Lisa Barton,
Secretary to the Commission.

[FR Doc. 2026-03324 Filed 2-19-26; 8:45 am]

BILLING CODE 7020-02-P